DEPARTMENT OF THE INTERIOR

Bureau of Indian Affairs

Advisory Board for Exceptional Children; Correction

AGENCY: Bureau of Indian Affairs, Interior.

ACTION: Notice of correction.

SUMMARY: This document corrects the notice that was published in the Federal Register on February 15, 2006, 71 FR 8309, as follows:

Correction

On page 8309, in the third column under the ADDRESSES section, in the first sentence the city of the meeting place was incorrectly stated. The sentence is corrected to read “The meetings will be held at the Francisco Grande Hotel and Golf Resort, 26000 West Gila Bend Highway, Casa Grande, Arizona.”

FOR FURTHER INFORMATION CONTACT: Lynann Barbero, (505) 248-7528.

Dated: February 16, 2006.
Debbie L. Clark,
Acting Principal Deputy Assistant Secretary—Indian Affairs.

[FR Doc. E6-2573 Filed 2-22-06; 8:45 am]

BILLING CODE 4310-6W-P